DEPARTMENT OF THE INTERIOR

National Park Service

[N6795; NPS-WASO-NAGPRA-NPS0041566; PPWOCRADN0-PCU00RP14.R50000]

Notice of Inventory Completion: University of Michigan, Ann Arbor, MI

AGENCY: National Park Service, Interior.

ACTION: Notice.

SUMMARY: In accordance with the Native American Graves Protection and Repatriation Act (NAGPRA), the University of Michigan has completed an inventory of human remains (hereinafter referred to as “Ancestral remains” or “Ancestors”) and associated funerary objects and has determined that there is a cultural affiliation between the Ancestral remains and associated funerary objects and Indian Tribes or Native Hawaiian organizations in this notice.

DATES: Repatriation of the Ancestral remains and associated funerary objects in this notice may occur on or after January 20, 2026.

ADDRESSES: Send written requests for repatriation of the Ancestral remains and associated funerary objects in this notice to Ben Secunda, University of Michigan, Office of Research, Suite G269, Lane Hall, Ann Arbor, MI 48109-1274, email bsecunda@umich.edu.

SUPPLEMENTARY INFORMATION: This notice is published as part of the National Park Service's administrative responsibilities under NAGPRA. The determinations in this notice are the sole responsibility of the University of Michigan, and additional information on the determinations in this notice, including the results of consultation, can be found in its inventory or related records. The National Park Service is not responsible for the determinations in this notice.

Abstract of Information Available

Ancestral remains representing, at least, two individuals have been identified. The one associated funerary object is one lot of unworked animal bone. The David Page site (20SL2) is located in Sanilac County, Michigan. In July of 1947, the Ancestors and object were removed by a property owner and donated to the University of Michigan Museum of Anthropological Archaeology (UMMAA) in August of 1947. The Ancestors are an adult 35-60 years male, and an adult 22-45 years female. Dating for the site is to the Woodland 850 BC—1400 AD based on burial treatment.

The University of Michigan has no record of, nor do its officials have any knowledge of, any treatment of the Ancestral remains and associated funerary objects with pesticides, preservatives, or other substances that represent a potential hazard to the collection(s) or to persons handling the collection(s).

Cultural Affiliation

Based on the information available and the results of consultation, cultural affiliation is reasonably identified by the geographical location or acquisition history of the Ancestral remains and associated funerary object described in this notice.

Determinations

The University of Michigan has determined that:

• The Ancestral remains described in this notice represent the physical remains of two individuals of Native American ancestry.

• The one object described in this notice is reasonably believed to have been placed intentionally with or near individual Ancestral remains at the time of death or later as part of the death rite or ceremony.

• There is a connection between the Ancestral remains and associated funerary objects described in this notice and the Saginaw Chippewa Indian Tribe of Michigan.

Requests for Repatriation

Written requests for repatriation of the Ancestral remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the Ancestral remains and associated funerary objects described in this notice to a requestor may occur on or after January 20, 2026. If competing requests for repatriation are received, the University of Michigan must determine the most appropriate requestor prior to repatriation. Requests for joint repatriation of the Ancestral remains and associated funerary objects are considered a single request and not competing requests. The University of Michigan is responsible for sending a copy of this notice to the Indian Tribes and Native Hawaiian organizations identified in this notice.

Authority: Native American Graves Protection and Repatriation Act, 25 U.S.C. 3003, and the implementing regulations, 43 CFR 10.10.

Dated: December 8, 2025.
Melanie O'Brien,
Manager, National NAGPRA Program.

[FR Doc. 2025-23374 Filed 12-18-25; 8:45 am]

BILLING CODE 4312-52-P